DEPARTMENT OF AGRICULTURE

Animal and Plant Health Inspection Service

[Docket No. APHIS-2007-0037]

Wildlife Services; Publication of NEPA Legal Notices

AGENCY: Animal and Plant Health Inspection Service, USDA.

ACTION: Notice.

SUMMARY: This notice lists the newspapers that will normally be used by the Wildlife Services program of the Animal and Plant Health Inspection Service to publish legal notices in accordance with the Agency's National Environmental Policy Act (NEPA) implementing procedures, including notices announcing the availability, for public comment, of documents regarding environmental assessments, environmental impact statements, and subsequent final decisions. We are also providing the address of an Internet Web site address where those notices will also be posted. We are publishing this notice to inform interested members of the public which newspapers Wildlife Services will most likely use to publish legal notices in connection with its NEPA-related activities, which we believe will enhance the public's opportunity to read and comment on our NEPA documents and decisions by providing clear, timely, and consistent notice of their availability.

DATES: Publication of legal notices in the listed newspapers and the posting of those notices on the Internet will begin with the first such notice made after the date of publication of this notice. The Web address and list of newspapers will remain in effect until another notice is published in the Federal Register

FOR FURTHER INFORMATION CONTACT: Mr. David S. Reinhold, National Environmental Manager, Operational Support Staff, WS, APHIS, 4700 River Road, Unit 87, Riverdale, MD 20737-1235; (301) 734-7921.

SUPPLEMENTARY INFORMATION: This notice lists the newspapers that will normally be used by the Wildlife Services (WS) program of the Animal and Plant Health Inspection Service (APHIS) to publish legal notices in accordance with the Agency's National Environmental Policy Act (NEPA) implementing procedures in 7 CFR part 372. We are publishing this notice to inform interested members of the public which newspapers APHIS-WS will most likely use to publish legal notices in connection with its NEPA-related activities, which we believe will enhance the public's opportunity to read and comment on our NEPA documents and decisions by providing clear, timely, and consistent notice of their availability. Newspaper notices will be published in the State newspaper of record specific to the State in which the APHIS-WS NEPA-related activities will take place. Additional newspapers, or different newspapers, may occasionally have to be used, depending upon the geographic area or areas covered or affected by a particular APHIS-WS NEPA document, as well as on the subject matter and courses of proposed action or actions identified in the NEPA document.

In addition to the notice provided through publication in newspapers, APHIS-WS will also post its NEPA-related legal notices on the Internet. The following Web address will be used: http://www.aphis.usda.gov/wildlife_damage/nepa.shtml.

The newspapers we expect to routinely use are listed below by State:

Alabama, Montgomery; Montgomery County: Montgomery Advertiser, published daily.

Arizona, Phoenix; Maricopa County: The Arizona Republic, published daily.

Arkansas, Little Rock; Pulaski County: Arkansas Democrat Gazette, published daily.

California, Sacramento; Sacramento County: Sacramento Bee, published daily.

Colorado, Denver; Denver County: Denver Post/Rocky Mountain News, published daily.

Connecticut, Hartford; Hartford County: Hartford Courant, published daily.

Delaware, Dover; Kent County: Delaware State News, published daily.

Florida, Tallahassee; Leon County: Tallahassee Democrat, published daily.

Georgia, Atlanta; Fulton County: Atlanta Journal and Constitution, published daily.

Guam, Hagatna: Pacific Daily News, published daily.

Hawaii, Honolulu; Oahu County: Honolulu Advertiser, published daily.

Idaho, Boise; Ada County: The Idaho Statesman, published daily.

Illinois, Springfield; Sangamon County: State Journal-Register, published daily.

Indiana, Indianapolis; Marion County: Indianapolis Star, published daily.

Iowa, Des Moines; Polk County: Des Moines Register, published daily.

Kansas, Topeka; Shawnee County: Topeka Capital Star, published daily.

Kentucky, Frankfort; Franklin County: The State Journal, published daily.

Louisiana, Baton Rouge; East Baton Rouge Parish: The Advocate, published daily.

Maine, Augusta; Kennebec County: Kennebec Journal, published daily.

Maryland, Annapolis; Anne Arundel County: Capitol-Gazette, published daily.

Massachusetts, Boston; Suffolk County: Boston Herald, published daily.

Michigan, Lansing; Ingham County: Lansing State Journal, published daily.

Minnesota, Minneapolis/St. Paul; Hennepin County: Star Tribune, published daily.

Mississippi, Jackson; Hinds County: Clarion Ledger, published daily.

Missouri, Jefferson City; Cole County: Jefferson City News Tribune, published daily.

Montana, Helena; Lewis and Clark County: Helena Independent Record, published daily.

Nebraska, Lincoln; Lancaster County: Lincoln Journal Star, published daily.

Nevada, Carson City; Carson County: Nevada Appeal, published daily.

New Hampshire, Concord; Merrimack County: Concord Monitor, published daily.

New Jersey, Trenton; Mercer County: The Times of Trenton, published daily.

New Mexico, Santa Fe; Santa Fe County: The Santa Fe New Mexican, published daily.

New York, Albany; Albany County: The Times Union, published daily.

North Carolina, Raleigh; Wake County: The News and Observer, published daily.

North Dakota, Bismarck; Burleigh County: Bismarck Tribune, published daily.

Ohio, Columbus; Franklin County: Columbus Dispatch, published daily.

Oklahoma, Oklahoma City; Oklahoma County: The Daily Oklahoman, published daily.

Oregon, Salem; Marion County: Statesman Journal, published daily.

Pennsylvania, Harrisburg; Dauphin County: The Patriot News, published daily.

Puerto Rico, San Juan; San Juan Municipality: San Juan Star, published daily.

Rhode Island, Providence; Providence County: Providence Journal, published daily.

South Carolina, Columbia; Richland County: The State Newspaper, published daily.

South Dakota, Pierre; Hughes County: Capital Journal, published weekdays.

Tennessee, Nashville; Davidson County: The Tennessean, published daily.

Texas, Austin; Travis County: The Austin Statesman, published daily.

Utah, Salt Lake City; Salt Lake County: Salt Lake Tribune, published daily.

Vermont, Montpelier; Washington County: Times Argus, published daily.

Virginia, Richmond; (No County): Richmond Times Dispatch, published daily.

Virgin Islands, Charlotte Amalie; St. Thomas: Virgin Islands Daily News, published daily.

Washington, Olympia; Thurston County: The Olympian, published daily.

Washington, DC: Washington Times, published daily.

West Virginia, Charleston; Kanawha County: Charleston Newspapers, published daily.

Wisconsin, Madison; Dane County: Wisconsin State Journal, published daily.

Wyoming, Cheyenne; Laramie County: Wyoming Tribune Eagle, published daily.

Supplemental notices may be placed in any newspaper, but timeframes/deadlines will be calculated based upon the date of publication of notices in the newspapers of record listed above.

Done in Washington, DC, this 15th day of March 2007.
Kevin Shea,
Acting Administrator, Animal and Plant Health Inspection Service.

[FR Doc. E7-5110 Filed 3-20-07; 8:45 am]

BILLING CODE 3410-34-P